DEPARTMENT OF COMMERCE

International Trade Administration

[A-357-812, A-570-863]

Honey From Argentina and the People's Republic of China; Final Results of the Expedited Five-Year (“Sunset”) Reviews of Antidumping Duty Orders

AGENCY: Import Administration, International Trade Administration, Department of Commerce.

SUMMARY: On November 1, 2006, the Department of Commerce (the Department) initiated sunset reviews of the antidumping duty orders on honey from Argentina and the People's Republic of China (PRC) pursuant to section 751(c) of the Tariff Act of 1930, as amended (the Act). On the basis of notices of intent to participate and adequate substantive responses filed on behalf of domestic interested parties, and no response from respondent interested parties, the Department conducted expedited (120-day) sunset reviews of these antidumping duty orders. As a result of these sunset reviews, the Department finds that revocation of the antidumping duty orders would be likely to lead to continuation or recurrence of dumping at the levels identified below in the “Final Results of Review” section of this notice.

EFFECTIVE DATE: March 7, 2007.

FOR FURTHER INFORMATION: Deborah Scott, AD/CVD Operations, Office 7 (Argentina), Catherine Bertrand, AD/CVD Operations, Office 9 (PRC) or Dana Mermelstein, AD/CVD Operations, Office 6, Import Administration, International Trade Administration, U.S. Department of Commerce, 14th Street and Constitution Avenue, NW., Washington, DC 20230; telephone: (202) 482-2657, (202) 482-3207 or (202) 482-1391, respectively.

SUPPLEMENTARY INFORMATION

Background

On November 1, 2006, the Department initiated sunset reviews of the antidumping duty orders on honey from Argentina and the PRC pursuant to section 751(c) of the Act. See Initiation of Five-Year (“Sunset”) Reviews, 71 FR 64242 (November 1, 2006). The Department received notices of intent to participate from two domestic interested parties, American Honey Producers Association and Sioux Honey Association (collectively, domestic interested parties), within the deadline specified in section 351.218(d)(1)(i) of the Department's regulations. Domestic interested parties claimed interested party status under section 771(9)(C) of the Act as U.S. producers of a domestic like product and under section 771(9)(E) as a trade association whose members produce the domestic like product in the United States. We received complete substantive responses from domestic interested parties within the 30-day deadline specified in 19 CFR 351.218(d)(3)(i). However, we did not receive any responses from any respondent interested parties. As a result, pursuant to section 751(c)(3)(B) of the Act and 19 CFR 351.218(e)(1)(ii)(C)(2), the Department conducted expedited sunset reviews of these orders.

Scope of the Orders

For purposes of these orders, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by these orders is currently classifiable under subheadings 0409.00.00, 1702.90.90, and 2106.90.99 of the Harmonized Tariff Schedule of the United States (HTSUS). Although the HTSUS subheadings are provided for convenience and customs purposes, the Department's written description of the merchandise under this order is dispositive.

Analysis of Comments Received

All issues raised in these cases are addressed in the “Issues and Decision Memorandum” from Stephen Claeys, Deputy Assistant Secretary for AD/CVD Operations, Import Administration, to David M. Spooner, Assistant Secretary for Import Administration, dated March 1, 2007 (Decision Memorandum), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in room B-099 of the main Department building.

In addition, a complete version of the Decision Memorandum can be accessed directly on the Internet at http://ia.ita.doc.gov/frn/. The paper copy and electronic version of the Decision Memorandum are identical in content.

Final Results of Sunset Reviews

We determine that revocation of the antidumping duty orders on honey from Argentina and the PRC would likely lead to continuation or recurrence of dumping at the following percentage weighted-average margins:

Manufacturers/exporters/producers | Weighted-average margin (percent)
Argentina:
Asociacion de Cooperativas Argentinas (ACA) | 37.44
Radix S.R.L. (Radix) | 32.56
ConAgra Argentina | 60.67
All Others | 35.76
PRC:
Inner Mongolia Autonomous Region Native Produce and Animal By-Products Import and Export Corporation | 57.13
Kunshan Foreign Trading Co | 49.60
Zhejiang Native Produce and Animal By-Products Import and Export Corp | 25.88
High Hope International Group Jiangsu Foodstuffs Import and Export Corp | 45.46
Shanghai Eswell Enterprise Co., Ltd | 45.46
Anhui Native Produce Import and Export Corporation | 45.46
Henan Native Produce Import and Export Corporation | 45.46
PRC-Wide rate | 183.80

This notice also serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and this notice in accordance with sections 751(c), 752, and 777(i)(1) of the Act.

Dated: March 1, 2007.
David M. Spooner,
Assistant Secretary for Import Administration.

[FR Doc. E7-4052 Filed 3-6-07; 8:45 am]

BILLING CODE 3510-DS-P